DEPARTMENT OF ENERGY

Federal Energy Regulatory Commission

Combined Notice of Filings #1

November 17, 2006.

Take notice that the Commission received the following electric corporate filings:

Docket Numbers: EC07-17-000.

Applicants: Suez Energy North America, Inc.

Description: SUEZ S.A & SUEZ Energy North America, Inc., et al., submits application requesting authorization for a change of control due to a merger with GDF over the jurisdictional facilities owned by SENA on 11/9/06.

Filed Date: 11/14/2006.

Accession Number: 20061115-0352.

Comment Date: 5 p.m. Eastern Time on Tuesday, December 5, 2006.

Docket Numbers: EC07-18-000.

Applicants: Wachovia Investment Holdings, LLC.

Description: Gamesa Energyia SAU, et al., submits an application for Order Authorization Disposition of Jurisdictional Facilities under Section 203 of the FPAS.

Filed Date: 11/08/2006.

Accession Number: 20061114-0035.

Comment Date: 5 p.m. Eastern Time on Wednesday, November 29, 2006.

Take notice that the Commission received the following exempt wholesale generator filings:

Docket Numbers: EG07-11-000.

Applicants: Loess Hills Wind Farm, LLC.

Description: Notice of Self-Certification of Loess Hills Wind Farm, LLC demonstrating that it is an Exempt Wholesale Generator under EG07-11.

Filed Date: 11/08/2006.

Accession Number: 20061116-0097.

Comment Date: 5 p.m. Eastern Time on Wednesday, November 29, 2006.

Docket Numbers: EG07-12-000.

Applicants: Locust Ridge Wind Farm, LLC.

Description: Locust Ridge Wind Farm, LLC's Notice of Self-Certification as an Exempt Wholesale Generator under EG07-12.

Filed Date: 11/13/2006.

Accession Number: 20061116-0098.

Comment Date: 5 p.m. Eastern Time on Monday, December 4, 2006.

Take notice that the Commission received the following electric rate filings:

Docket Numbers: ER97-2801-015.

Applicants: PacifiCorp.

Description: PacifiCorp & PPM Energy, Inc., submits a corrected version of their 3/29/06 compliance filing reflecting certain limited errata recently discoverd, etc., under ER97-2801, et al.

Filed Date: 11/6/2006.

Accession Number: 20061109-0069.

Comment Date: 5 p.m. Eastern Time on Monday, November 27, 2006.

Docket Numbers: ER01-2217-005.

Applicants: Sunrise Power Company, LLC.

Description: Sunrise Power Co., LLC, submits Sub Original Sheet 5, et al., as part of its FERC Electric Tariff, First Revised Volume 1 in compliance with FERC's 11/3/06 Order under ER01-2217.

Filed Date: 11/13/2006.

Accession Number: 20061116-0041.

Comment Date: 5 p.m. Eastern Time on Monday, December 4, 2006.

Docket Numbers: ER03-821-002.

Applicants: One Nation Energy Solutions, LLC.

Description: One Nation Energy Solutions LLC submits its First Revised Rate Schedule umder ER03-821.

Filed Date: 11/8/2006.

Accession Number: 20061116-0092.

Comment Date: 5 p.m. Eastern Time on Wednesday, November 29, 2006.

Docket Numbers: ER05-1178-006; ER05-1191-006.

Applicants: Gila River Power, L.P.; Union Power Partners, LP.

Description: Gila River Power, LP and Union Power Partners, LP submits Notice of Non-Material Change in Status relating to their upstream ownership structure under ER05-1178, et al.

Filed Date: 11/13/2006.

Accession Number: 20061116-0040.

Comment Date: 5 p.m. Eastern Time on Monday, December 4, 2006.

Docket Numbers: ER06-115-001.

Applicants: LSP South Bay, LLC.

Description: Refund Report of LSP South Bay, LLC under ER06-115.

Filed Date: 11/08/2006.

Accession Number: 20061108-5010.

Comment Date: 5 p.m. Eastern Time on Wednesday, November 29, 2006.

Docket Numbers: ER03-1288-002.

Applicants: Rocky Mountain Energy Center, LLC.

Description: Rocky Mountain Energy Center LLC submits a Substitute First Revised Sheet 3 for its FERC Electric Tariff 1, which is to replace the First Revised Sheet 3 that was filed 10/3/06 under ER03-1288.

Filed Date: 11/6/2006.

Accession Number: 20061108-0091.

Comment Date: 5 p.m. Eastern Time on Monday, November 27, 2006.

Docket Numbers: ER06-1308-003.

Applicants: Midwest ISO.

Description: Midwest Independent Transmission System Operator, Inc., submits copies of a clean and redlined revisions to Sheet 966A and 966C of FERC Electric Rate Schedule 10-C, etc., under ER06-1308.

Filed Date: 11/14/2006.

Accession Number: 20061116-0087.

Comment Date: 5 p.m. Eastern Time on Tuesday, December 5, 2006.

Docket Numbers: ER06-1362-001.

Applicants: Southwest Power Pool, Inc.

Description: Southwest Power Pool, Inc., submits this compliance filing providing revisions to its Open Access Transmission Tariff pursuant to the Commission's Order issued 10/13/06 under ER06-1362.

Filed Dates: 11/13/2006; 11/15/06.

Accession Number: 20061116-0032.

Comment Date: 5 p.m. Eastern Time on Monday, December 4, 2006.

Docket Numbers: ER06-321-005.

Applicants: Midwest ISO; Midwest ISO Transmission Owners; Michigan Electric Transmission Company; International Company; WPS Resourced Corporation; Wisconsin Electric Power Company.

Description: Agreement among the Midwest ISO Transmission Owners and the Midwest Independent Transmission System Operator, Inc., relating to the Role of the Independent Market Monitor under ER06-321.

Filed Date: 11/13/2006.

Accession Number: 20061116-0082.

Comment Date: 5 p.m. Eastern Time on Monday, December 4, 2006.

Docket Numbers: ER07-186-000.

Applicants: California Independent System Operator.

Description: California Independent System Operator Corp., submits an informational filing intended to provide notice re the revised transmission Access Charges effective 9/1/06 under ER07-186.

Filed Date: 11/7/2006.

Accession Number: 20061109-0101.

Comment Date: 5 p.m. Eastern Time on Tuesday, November 28, 2006.

Docket Numbers: ER07-197-000.

Applicants: ISO New England, Inc.

Description: ISO New England Inc., et al., submits revisions to the MEPCO Transmission Operating Agreement b/w ISO and MEPCO to include the Chester Static VAR Compensator as a covered facility etc., under ER07-197.

Filed Date: 11/9/2006.

Accession Number: 20061114-0058.

Comment Date: 5 p.m. Eastern Time on Thursday, November 30, 2006.

Docket Numbers: ER07-199-000.

Applicants: PJM Interconnection, LLC.

Description: PJM Interconnection, LLC submits an executed Wholesale Market Participation Agreement with Southeastern Chester County Refuse Authority under ER07-199.

Filed Date: 11/13/2006.

Accession Number: 20061116-0038.

Comment Date: 5 p.m. Eastern Time on Monday, December 4, 2006.

Docket Numbers: ER07-200-000.

Applicants: Southwest Power Pool, Inc.

Description: Southwest Power Pool Inc., submits an executed Interconnection Agreement between itself, Kansas Gas and Electric Co., et al., designated as Service Agreement 1298, to become effective 10/1/06 under ER07-200.

Filed Date: 11/13/2006.

Accession Number: 20061116-0039.

Comment Date: 5 p.m. Eastern Time on Monday, December 4, 2006.

Docket Numbers: ER07-202-000.

Applicants: E. ON U.S. LLC.

Description: E. ON U.S. LLC, Louisville Gas and Electric Co., and Kentucky Utilities Co., submits an executed amended service agreement with Illinois Municipal Electric Agency under ER07-202.

Filed Date: 11/13/2006.

Accession Number: 20061116-0042.

Comment Date: 5 p.m. Eastern Time on Monday, December 4, 2006.

Docket Numbers: ER07-206-000.

Applicants: PJM Interconnection, LLC.

Description: PJM Interconnection, LLC submits an executed Wholesale Market Participation Agreement with Great Bear Hydropower, Inc., et al., pusuant to Section 205 of the Federal Power Act etc., under ER07-206.

Filed Date: 11/14/2006.

Accession Number: 20061116-0035.

Comment Date: 5 p.m. Eastern Time on Tuesday, December 5, 2006.

Docket Numbers: ER07-207-000.

Applicants: WPS Resources Corporation.

Description: WPS Resources Operating Companies on behalf of Wisconsin Public Service Corp., et al., submits a notice of cancellation and a revised service agreement cover sheet to terminate a Service Agreement etc., under ER07-207.

Filed Date: 11/13/2006.

Accession Number: 20061116-0036.

Comment Date: 5 p.m. Eastern Time on Monday, December 4, 2006.

Docket Numbers: ER07-208-000.

Applicants: Entergy Services Inc.

Description: Entergy Services, Inc., on behalf Energy Arkansas, Inc., et al., submits notice of cancellation which proposes to terminate the January 1, 1987 Contract for Purchases of Economic Energy etc., under ER07-208.

Filed Date: 11/13/2006.

Accession Number: 20061116-0034.

Comment Date: 5 p.m. Eastern Time on Monday, December 4, 2006.

Docket Numbers: ER07-209-000.

Applicants: Avista Corporation.

Description: Avista Corporation submits an Amended and Restated Power Transfer Agreement conformed to comply with Rule 614 with Public Utility District 2 of Grant County pursuant to Section 35.12 of FERC's Regulations under ER07-209 et al.

Filed Date: 11/13/2006.

Accession Number: 20061116-0033.

Comment Date: 5 p.m. Eastern Time on Monday, December 4, 2006.

Docket Numbers: ER07-210-000.

Applicants: Northeast Utilities.

Description: Northeast Utilities Service Co., on behalf of the Connecticut Light and Power Co., submits a Notice of Termination to cancel First Revised Rate Schedule FERC 554 under ER07-210.

Filed Date: 11/13/2006.

Accession Number: 20061116-0083.

Comment Date: 5 p.m. Eastern Time on Monday, December 4, 2006.

Docket Numbers: ER07-212-000; ER01-1558-004.

Applicants: Wayzata California Power Holdings, LLC; NEO California Power LLC.

Description: Notice of Non-Material Change in Status, Notice of Succession, and request for expedited review of NEO California Power, LLC and Wayzata California Power Holdings, LLC under ER01-1588 et al.

Filed Date: 11/13/2006.

Accession Number: 20061116-0088.

Comment Date: 5 p.m. Eastern Time on Monday, December 4, 2006.

Docket Numbers: ER07-213-000; ER07-214-000; ER07-215-000; ER07-216-000; ER07-217-000; ER07-218-000.

Applicants: Nordic Marketing of Massachusetts, L.L.C.; Nordic Marketing of New Jersey, LLC; Nordic Marketing of New York, LLC; Nordic Electric LLC; Nordic Energy Barge 1, L.L.C.; Nordic Energy Barge 2, L.L.C.

Description: Nordic Marketing of Massachusetts, LLC, et al., submits Second Revised Sheet 1, et al., to FERC Rate Schedule 1 etc., under ER07-213 et al.

Filed Date: 11/14/2006.

Accession Number: 20061116-0090.

Comment Date: 5 p.m. Eastern Time on Tuesday, December 5, 2006.

Docket Numbers: ER07-219-000.

Applicants: ISO New England Inc.

Description: ISO New England Inc., and New England Power Pool Participants Committee submits Market Rule changes to eliminate the Peaking Unit Safe Harbor mechanism under ER07-219.

Filed Date: 11/14/2006.

Accession Number: 20061116-0091.

Comment Date: 5 p.m. Eastern Time on Tuesday, December 5, 2006.

Take notice that the Commission received the following electric securities filings:

Docket Numbers: ES07-8-000.

Applicants: PSEG Nuclear LLC.

Description: Application of PSEG Energy Resources & Trade LLC, et al., for Authorization to Guarantee Securities under ES07-8.

Filed Date: 11/09/2006.

Accession Number: 20061109-5019.

Comment Date: 5 p.m. Eastern Time on Thursday, November 30, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-19954 Filed 11-24-06; 8:45 am]

BILLING CODE 6717-01-P